DEPARTMENT OF COMMERCE

National Oceanic and Atmospheric Administration

[RTID: 0648-XC177]

Endangered and Threatened Species; Take of Anadromous Fish

AGENCY: National Marine Fisheries Service (NMFS), National Oceanic and Atmospheric Administration (NOAA), Commerce.

ACTION: Notice; determination on a tribal resource management plan.

SUMMARY: Notice is hereby given that NMFS has made a final determination on the Hoopa Valley Tribe's Tribal Resource Management Plan (TRMP). The determination is pursuant to the limitation on take prohibitions for actions conducted under Tribal Resource Management Plans promulgated under the 4(d) Rule of the Endangered Species Act (ESA) (Tribal 4(d) Rule). The TRMP specifies harvest, research, and monitoring activities for tribal fisheries affecting ESA-listed Southern Oregon/Northern California Coast Coho Salmon in the portion of the Trinity River within the Hoopa Valley Reservation. As required by the Tribal 4(d) Rule, NMFS sought public comment on its pending determination prior to making a final determination.

FOR FURTHER INFORMATION CONTACT: Anthony Siniscal at 971-322-8407, or via email: Anthony.siniscal@noaa.gov.

SUPPLEMENTARY INFORMATION:

ESA Listed Species Covered in This Notice

Southern Oregon/Northern California Coast Coho salmon (Oncorhynchus kisutch)

Evolutionarily Significant Unit: threatened, naturally produced, and artificially propagated.

Background

The Hoopa Valley Tribe submitted a TRMP for review under the ESA Tribal 4(d) Rule. Under section 4 of the ESA, the Secretary of Commerce (Secretary) is required to adopt such regulations as deemed necessary and advisable for the conservation of species listed as threatened. The ESA salmon and steelhead 4(d) rule (65 FR 42422, July 10, 2000, as updated in 70 FR 37160, June 28, 2005) specifies categories of activities that contribute to the conservation of listed salmonids and sets criteria for such activities to qualify as limits on take prohibitions. The ESA Tribal 4(d) Rule (65 FR 42481, July 10, 2000) states that the take prohibitions of ESA Section 9 will not apply to a TRMP provided that the Secretary has determined that the TRMP will not appreciably reduce the likelihood of survival and recovery for the listed species (50 CFR 223.204(a)).

The Hoopa Valley Tribe's TRMP provides a framework through which Tribal salmon fisheries can be implemented while meeting requirements specified under the ESA. The TRMP describes the proposed fisheries, establishes limits for harvest, and describes monitoring, evaluation, and reporting provisions associated with the fisheries. The TRMP management objective is for the Tribe to conduct fisheries in a manner that does not appreciably reduce the likelihood of survival and recovery of ESA-listed coho salmon.

NMFS has analyzed the effects of the TRMP on ESA-listed salmon and steelhead species and has concluded that the TRMP would not appreciable reduce the likelihood of survival and recovery of ESA-listed species, while providing for the proposed tribal harvest opportunities. Our determination depends upon implementation of all of the monitoring, evaluation, reporting tasks or assignments, and enforcement activities included in the TRMP, and that the fisheries stay within the impact limits described in the TRMP.

Summary of Comments Received on the Proposed Evaluation and Pending Determination

Prior to making a final determination on Tribal Plans, NMFS must take comments on its pending determination as to whether or not implementation of the plan will appreciably reduce the likelihood of survival and recovery of ESA-listed salmonids (50 CFR 223.204(b)(3)). NMFS assessed the TRMP and prepared a Proposed Evaluation and Pending Determination (PEPD). The PEPD was posted on the NMFS website and a notice of availability was posted in the Federal Register on February 23, 2022 (87 FR 10174). The public comment period expired on March 25, 2022. No comments were received on the PEPD. The PEPD and an Evaluation and Recommended Determination are available at: https://www.fisheries.noaa.gov/action/tribal-resource-management-plan-trmp-hoopa-valley-tribe.

Authority: 16 U.S.C. 1531 et seq.; 16 U.S.C. 742a et seq.

Dated: July 29, 2022.
Angela Somma,
Chief, Endangered Species Division, Office of Protected Resources, National Marine Fisheries Service.

[FR Doc. 2022-16729 Filed 8-3-22; 8:45 am]

BILLING CODE 3510-22-P